DEPARTMENT OF LABOR

Employment and Training Administration

[NAFTA-05223]

Eaton Corporation, Cutler-Hammer, Moon Township, PA; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 USC 2273), an investigation was initiated on August 20, 2001 in response to a petition filed on behalf of workers at Eaton Corporation, Cutler-Hammer, Moon Township, Pennsylvania.

The petitioner requested that the petition for NAFTA-TAA be withdrawn. Consequently, further investigation in this case would serve no purpose, and the investigation has been terminated.

Signed at Washington, DC, this 28th day of September, 2001.
Linda G. Poole,
Certifying Officer, Division of Trade Adjustment Assistance.

[FR Doc. 01-26366 Filed 10-18-01; 8:45 am]

BILLING CODE 4510-30-M